DEPARTMENT OF COMMERCE

International Trade Administration

[A-552-802]

Certain Frozen Warmwater Shrimp From the Socialist Republic of Vietnam: Preliminary Results, Partial Rescission, and Request for Revocation, in Part, of the Fourth Administrative Review

AGENCY: Import Administration, International Trade Administration, Department of Commerce.

SUMMARY: The Department of Commerce (“the Department”) is conducting an administrative review of the antidumping duty order on certain frozen warmwater shrimp from the Socialist Republic of Vietnam (“Vietnam”), covering the period of review (“POR”) of February 1, 2008, through January 31, 2009. As discussed below, we preliminarily determine that sales have been made below normal value (“NV”). If these preliminary results are adopted in our final results of review, we will instruct U.S. Customs and Border Protection (“CBP”) to assess antidumping duties on entries of subject merchandise during the POR for which the importer-specific assessment rates are above de minimis.

DATES: Effective Date: March 15, 2010.

FOR FURTHER INFORMATION CONTACT: Bobby Wong or Susan Pulongbarit, AD/CVD Operations, Office 9, Import Administration, International Trade Administration, U.S. Department of Commerce, 14th Street and Constitution Avenue, NW., Washington, DC 20230; telephone: (202) 482-6905 and (202) 482-0413, respectively.

SUPPLEMENTARY INFORMATION:

General Background

On February 1, 2005, the Department published in the Federal Register the antidumping duty order on frozen warmwater shrimp from Vietnam. See Notice of Amended Final Determination of Sales at Less Than Fair Value and Antidumping Duty Order: Certain Frozen Warmwater Shrimp From the Socialist Republic of Vietnam, 70 FR 5152 (February 1, 2005) (“Order”). On February 4, 2009, the Department published a notice of opportunity to request an administrative review of the antidumping duty order on frozen warmwater shrimp from Vietnam for the period February 1, 2008, through January 31, 2009. See Antidumping or Countervailing Duty Order, Finding, or Suspended Investigation; Opportunity To Request Administrative Review, 74 FR 6013 (February 4, 2009).

From February 23, 2009, through March 2, 2009, we received requests to conduct administrative reviews from Petitioner,¹ the Louisiana Shrimp Association (“LSA”), and certain Vietnamese companies. See Notice of Initiation of Administrative Reviews and Requests for Revocation in Part of the Antidumping Duty Orders on Certain Frozen Warmwater Shrimp From the Socialist Republic of Vietnam and the People's Republic of China, 74 FR 13178 (March 26, 2009) (“Initiation Notice”). Among the requests for review, the Department also received 18 requests for revocation. Subsequently, 13 companies withdrew their requests for revocation, but maintained their request for reviews. See Revocation section, below.

¹ The Ad Hoc Shrimp Trade Action Committee is the Petitioner.

On March 26, 2009, the Department initiated an administrative review of 198 producers/exporters of subject merchandise from Vietnam. See Initiation Notice. On March 26, 2009, the Department posted the separate rate certification and separate rate application on its Web site for Vietnamese exporters for whom a review was initiated to complete and submit to the Department.

On April 8, 2009, and April 24, 2009, the Department received letters from Binh Anh Seafood (“Binh Anh”) and Vinh Hoan Corporation (“Vinh Hoan”), respectively, indicating that they made no shipments of subject merchandise during the POR.

Of the 198 companies/groups upon which we initiated an administrative review, 23 companies submitted separate-rate certifications, nine companies submitted separate-rate applications, and two companies stated that they did not export subject merchandise to the United States during the POR. The Department addresses the review status of each grouping of companies below.

Respondent Selection

On March 26, 2009, the Department placed on the record data obtained from CBP with respect to the selection of respondents, inviting comments from interested parties. See Letter from the Department to Interested Parties, Regarding: CBP data for Respondent Selection. On April 6, and April 7, 2009, Petitioner and Respondents provided comments on the Department's respondent selection methodology.

On June 11, 2009, the Department issued its respondent selection memorandum. Based upon section 777A(c)(2)(B) of the Tariff Act of 1930 as amended, (“the Act”), the Department selected Minh Phu Seafood Corporation (and its affiliates Minh Qui Seafood Co., Ltd., and Minh Phat Seafood Co., Ltd.) (collectively “The Minh Phu Group”), and Nha Trang Seaproduct Company (“Nha Trang Seafoods”) for individual examination (hereinafter “mandatory respondents”) because they were the largest exporters, by volume, of subject merchandise during the POR. See June 11, 2009, Memorandum to John M. Anderson, through James Doyle, from Scot T. Fullerton and Bobby Wong, regarding: Selection of Respondents for the 2008-2009 Antidumping Duty Administrative Review of Frozen Warmwater Shrimp From the Socialist Republic of Vietnam (“Respondent Selection Memo”).

Questionnaires

On June 16, 2009, the Department issued its non-market economy questionnaire to the mandatory respondents. From July 10, 2009, through February 26, 2010, the Department received responses from mandatory respondents from the non-market economy questionnaire and subsequent supplemental questionnaires. From July 8, 2009, to August 24, 2009, the Department received voluntary responses to the Department's non-market economy questionnaire from Camau Frozen Seafood Processing Import Export Corporation (“CAMIMEX”), Grobest & I-Mei Industrial (Vietnam) Co., Ltd. (“Grobest”), and Minh Hai Joint-Stock Seafoods Processing Company (“Seaprodex Minh Hai”).

Duty Absorption

On April 21, and April 24, 2009, Petitioner, the LSA, and the American Shrimp Processors Association, respectively, requested that the Department determine whether the mandatory respondents and numerous separate-rate respondents had absorbed antidumping duties for U.S. sales of frozen warmwater shrimp made during the POR. Section 751(a)(4) of the Act provides for the Department, if requested, to determine during an administrative review initiated two or four years after publication of the order, whether antidumping duties have been absorbed by a foreign producer or exporter, if the subject merchandise is sold in the United States through an affiliated importer. See also 19 CFR 351.213(j)(1). On February 2, 2010, the Department requested that the Minh Phu Group and Nha Trang Seafoods, the two mandatory respondents, provide evidence to demonstrate that their unaffiliated U.S. purchasers ultimately paid antidumping duties.

In determining whether the antidumping duties have been absorbed by the mandatory respondents, we presume the duties have been absorbed for all CEP sales that have been made at less than NV. This presumption can be rebutted with evidence (e.g., an agreement between the affiliated importer and unaffiliated purchaser) that the unaffiliated purchaser paid the full duty ultimately assessed on the subject merchandise. See, e.g., Certain Stainless Steel Butt-Weld Pipe Fittings From Taiwan: Preliminary Results of Antidumping Duty Administrative Review and Notice of Intent To Rescind in Part, 70 FR 39735, 39737 (July 11, 2005) (unchanged in final results).

On February 17, 2010, the Minh Phu Group filed a response to the Department's duty absorption questionnaire and provided evidence that its unaffiliated U.S. purchasers ultimately paid the full duty assessed on the subject merchandise. The Minh Phu Group provided invoices, prices paid by the ultimate customers, and financial statements on the record showing that the unaffiliated customer paid the duties during the POR. We conclude that this information sufficiently demonstrates that the unaffiliated purchasers in the United States ultimately paid the assessed duties. Therefore, we preliminarily find that antidumping duties have not been absorbed by the Minh Phu Group on U.S. sales made through its affiliated importer. See Letter from Thompson Hine, to the Secretary of Commerce, regarding Certain Frozen Warmwater Shrimp From Vietnam: Duty Absorption Allegation in Fourth Administrative Review (POR: 02/01/08-01/31/09), dated February 17, 2010.

On February 12, 2010, Nha Trang Seafoods filed a response rebutting the duty absorption presumption. In its response, Nha Trang Seafoods stated that it was not affiliated with any companies to which it shipped during the instant POR and that all reported U.S. sales were export price (“EP”) sales. We preliminarily conclude because Nha Trang Seafoods did not sell merchandise in the United States through an affiliated importer, it is not appropriate to make a duty absorption determination in this segment of the proceeding within the meaning of section 751(a)(4) of the Act. See Letter from the Minh Phu Group, to the Secretary of Commerce, regarding Frozen Warmwater Shrimp From the Socialist Republic of Vietnam: Duty Absorption Allegation in Fourth Administrative Review (POR: 02/01/08-01/31/09), dated February 12, 2010; see also Agro Dutch Industries Ltd. v. United States, 508 F.3d. 1024, 1033 (Fed. Cir. 2007).

Petitioner also requested that the Department investigate whether separate-rate respondents had absorbed duties. As explained above, because of the large number of companies subject to this review, and given the Department's current resources, the Department selected two companies as mandatory respondents in this administrative review and thus only issued its complete questionnaire to these companies. In determining whether antidumping duties have been absorbed, the Department requires certain specific data (i.e., U.S. sales data) to ascertain whether those sales have been made at less than NV. Since U.S. sales data is only obtained from the complete questionnaire (i.e., only mandatory respondents submit U.S. sales data), and the separate-rate respondents were required only to provide information on their separate-rate status (i.e., not required to provide any U.S. sales data), we do not have the information necessary to assess whether the separate-rate respondents absorbed duties. Accordingly, the separate-rate respondents were not selected as mandatory respondents and, therefore, we cannot make duty absorption determinations with respect to these companies.

Extension of the Preliminary Results

On October 27, 2009, the Department extended the deadline for the preliminary results until March 1, 2010. See Certain Frozen Warmwater Shrimp From the Socialist Republic of Vietnam and the People's Republic of China: Extension of Preliminary Results of Antidumping Duty Administrative Reviews, 74 FR 55192, (October 27, 2009).

As explained in the February 12, 2010, memorandum from the Deputy Assistant Secretary for Import Administration, the Department exercised its discretion to toll deadlines for the duration of the closure of the Federal Government from February 5, through February 12, 2010. See Memorandum to the Record from Ronald Lorentzen, DAS for Import Administration, regarding “Tolling of Administrative Deadlines as a Result of the Government Closure During the Recent Snowstorm,” dated February 12, 2010. Thus, all deadlines in this segment of the proceeding have been extended by seven days. The revised deadline for the preliminary determination of this review is now March 8, 2010.

Scope of the Order

The scope of this order includes certain frozen warmwater shrimp and prawns, whether wild-caught (ocean harvested) or farm-raised (produced by aquaculture), head-on or head-off, shell-on or peeled, tail-on or tail-off,² deveined or not deveined, cooked or raw, or otherwise processed in frozen form.

² “Tails” in this context means the tail fan, which includes the telson and the uropods.

The frozen warmwater shrimp and prawn products included in the scope of this order, regardless of definitions in the Harmonized Tariff Schedule of the United States (“HTSUS”), are products which are processed from warmwater shrimp and prawns through freezing and which are sold in any count size.

The products described above may be processed from any species of warmwater shrimp and prawns. Warmwater shrimp and prawns are generally classified in, but are not limited to, the Penaeidae family. Some examples of the farmed and wild-caught warmwater species include, but are not limited to, whiteleg shrimp (Penaeus vannemei), banana prawn (Penaeus merguiensis), fleshy prawn (Penaeus chinensis), giant river prawn (Macrobrachium rosenbergii), giant tiger prawn (Penaeus monodon), redspotted shrimp (Penaeus brasiliensis), southern brown shrimp (Penaeus subtilis), southern pink shrimp (Penaeus notialis), southern rough shrimp (Trachypenaeus curvirostris), southern white shrimp (Penaeus schmitti), blue shrimp (Penaeus stylirostris), western white shrimp (Penaeus occidentalis), and Indian white prawn (Penaeus indicus).

Frozen shrimp and prawns that are packed with marinade, spices or sauce are included in the scope of this order. In addition, food preparations, which are not “prepared meals,” that contain more than 20 percent by weight of shrimp or prawn are also included in the scope of this order.

Excluded from the scope are: (1) Breaded shrimp and prawns (HTS subheading 1605.20.10.20); (2) shrimp and prawns generally classified in the Pandalidae family and commonly referred to as coldwater shrimp, in any state of processing; (3) fresh shrimp and prawns whether shell-on or peeled (HTS subheadings 0306.23.00.20 and 0306.23.00.40); (4) shrimp and prawns in prepared meals (HTS subheading 1605.20.05.10); (5) dried shrimp and prawns; (6) canned warmwater shrimp and prawns (HTS subheading 1605.20.10.40); (7) certain dusted shrimp; and (8) certain battered shrimp. Dusted shrimp is a shrimp-based product: (1) That is produced from fresh (or thawed-from-frozen) and peeled shrimp; (2) to which a “dusting” layer of rice or wheat flour of at least 95 percent purity has been applied; (3) with the entire surface of the shrimp flesh thoroughly and evenly coated with the flour; (4) with the non-shrimp content of the end product constituting between four and 10 percent of the product's total weight after being dusted, but prior to being frozen; and (5) that is subjected to IQF freezing immediately after application of the dusting layer. Battered shrimp is a shrimp-based product that, when dusted in accordance with the definition of dusting above, is coated with a wet viscous layer containing egg and/or milk, and par-fried.

The products covered by this order are currently classified under the following HTSUS subheadings: 0306.13.00.03, 0306.13.00.06, 0306.13.00.09, 0306.13.00.12, 0306.13.00.15, 0306.13.00.18, 0306.13.00.21, 0306.13.00.24, 0306.13.00.27, 0306.13.00.40, 1605.20.10.10, and 1605.20.10.30. These HTSUS subheadings are provided for convenience and for customs purposes only and are not dispositive, but rather the written description of the scope of this order is dispositive.

Preliminary Partial Rescission of Administrative Review

As stated above, Vinh Hoan and Binh Anh informed the Department that they did not export subject merchandise to the United States during the POR. CBP has not provided any information that contradicts these companies' claims. Therefore, because the record indicates that Vinh Hoan and Binh Anh did not sell subject merchandise to the United States during the POR, we are preliminarily rescinding this administrative review with respect to the two companies. See 19 CFR 351.213(d)(3).

Vietnam-Wide Entity

Upon initiation of the administrative review, we provided the opportunity for all companies upon which the review was initiated to complete either the separate-rates application or certification. The separate-rate certification and separate-rate applications were available at: http://ia.ita.doc.gov/nme/nme-sep-rate.html.

As stated above, 108 ³ additional companies upon which a review was initiated did not certify or apply for a separate rate. Because the Department preliminarily determines that there were exports of subject merchandise under review from Vietnamese producers/exporters that did not demonstrate their eligibility for separate-rate status, the Vietnam-wide entity is now under review.

³ See Attachment for a list of these companies.

Requests for Revocation, in Part

During the request for review period in the instant review, eighteen respondents ⁴ requested revocation from the Order; however subsequently, twelve of the companies ⁵ withdrew their revocation requests prior to respondent selection. Additionally, on July 31, 2009, Nha Trang Seafoods withdrew its request for revocation. Five companies have maintained their request for revocation: the Minh Phu Group, CAMIMEX, Grobest, Viet Hai Seafood Co., a/k/a Vietnam Fish One So., Ltd. (“Fish One”), and Seaprodex Minh Hai (collectively “revocation companies”). Of the revocation companies, the Minh Phu Group is a mandatory respondent, and the remaining four are separate rate respondents in this proceeding.

⁴ Camau Frozen Seafood Processing Import Export Corporation (“CAMIMEX”); Minh Hai Joint-Stock Seafoods Processing Company (“Seaprodex Minh Hai”), Minh Phu Seafood Corporation (and its affiliates Minh Qui Seafood Co., Ltd., and Minh Phat Seafood Co., Ltd.) (collectively the “Minh Phu Group”); Cadovimex Seafood Import-Export and Processing Joint-Stock Company a.k.a. Cai Doi Vam Seafood Import-Export Company (“CADOVIMEX”); Cafatex Fishery Joint Stock Corporation (“Cafatex Corp”); Can Tho Agricultural and Animal Products Import Export Company (“CATACO”); Coastal Fisheries Development Corporation (“COFIDEC”); Investment Commerce Fisheries Corporation (“INCOMFISH”); Minh Hai Export Frozen Seafood Processing Joint-Stock Company (“Minh Hai Jostoco”); Minh Hai Joint-Stock Seafoods Processing Company (“Seaprodex Minh Hai”); Ngoc Singh Private Enterprise (“Ngoc Singh Seafoods”); Nha Trang Seaproduct Company (“Nha Trang Seafoods”); Soc Trang Seafood Joint Stock Company, a.k.a. Soc Trang Aquatic Products and General Import Export Company (“STAPIMEX”); Sao Ta Foods Joint Stock Company (“FIMEX VN”); UTXI Aquatic Products Processing Corporation, a.k.a. UTXI Aquatic Products Processing Company (“UTXICO”); Vinh Loi Import Export Company (“VIMEX”); Viet Hai Seafood Co., Ltd., a.k.a. Vietnam Fish One Co., Ltd. (“Fish One”); Ca Mau Seafood Joint Stock Company (“SEAPRIMEXCO”); and Grobest & I-Mei Industrial (Vietnam) Co., Ltd. (“Grobest”).

⁵ Cafatex Corp.; SEAPRIMEXCO; CATACO; COFIDEC; INCOMFISH; Minh Hai Jostoco; Ngoc Singh Seafoods; STAPIMEX; FINMEX VN; UTXICO; VIMEX; and CADOVIMEX.

In its request for revocation, the revocation companies argued that each has maintained three consecutive years of sales at not less than normal value. These companies argued that, as a result of its alleged three consecutive years of no dumping, they are eligible for revocation under section 751(d)(1) of the Act and section 351.222(b)(2) of the Department's regulations.

We preliminarily determine not to revoke the Order with respect to revocation companies that were not individually selected for review. The Act affords the Department broad discretion to limit the number of respondents selected for individual review when the large number of review requests makes the individual calculation of dumping margins for all companies under review impracticable. Specifically, section 777A(c)(2) of the Act provides that if it is not practicable for the Department to make individual dumping margin determinations because of the large number of exporters or producers involved, the Department may determine margins for a reasonable number of exporters or producers. Although the Department's regulations set out rules and procedures for possible revocation of a dumping order, in whole or in part, based on an absence of dumping, it is silent on the applicability of this regulation when the Department has limited its examination under section 777A(c)(2) of the Act. The Department does not interpret the regulation as requiring it to conduct an individual examination of the non-selected revocation companies, or a verification of the companies' data, where, as here, the Department determined to limit its examination to a reasonable number of exporters in accordance with section 777A(c)(2)(B), and the non-selected revocation companies were not selected under this provision. Nothing in the regulation requires the Department to conduct an individual examination and verification when the Department has limited its review, under section 777A(c)(2). As explained above, the non-selected revocation companies were not selected for individual review because, pursuant to 777A(c)(2)(B) of the Act, the Department selected the two largest exporters, by volume. See Respondent Selection Memo. Thus, because we have not selected the non-selected revocation companies for individual examination, we preliminarily determine not to revoke the Order with respect to these companies.

However, the non-selected revocation companies filed timely separate-rate certifications, as evidence of each company's continued eligibility for a separate rate. Thus, the Department considers the non-selected revocation companies to be cooperative respondents eligible for a separate rate.

Furthermore, with respect to the Minh Phu Group's request for revocation, a mandatory respondent in the instant review, we preliminarily determine not to revoke the Order. In its request for revocation, the Minh Phu Group argued that, with the completion of the instant review, it will have maintained three consecutive years of sales at not less than normal value. The Minh Phu Group argued that, as a result of three consecutive years of sales at not less than normal value, it is eligible for revocation under section 751(d)(1) of the Act and section 351.222(b)(2) of the Department's regulations. However, for these preliminary results, based on sales and production data provided by the Minh Phu Group, the Department has calculated a (non-de minimis) positive margin for the Minh Phu Group. Therefore, under 751(d)(1) of the Act and section 351.222(b)(2), we have preliminarily determined not to revoke the Order with respect to the Minh Phu Group.

Verification

Pursuant to 19 CFR 351.307(b)(iv), between January 11 and January 21, 2009, the Department conducted a verification of the Minh Phu Group's sales and factors of production (“FOP”). See Memo to the File through Scot Fullerton, Program Manager, Office 9, Susan Pulongbarit, International Trade Analyst, “Verification of the CEP Sales and Factors of Production Response of the Minh Phu Group in the 2008-09 Administrative Review of Certain Warmwater Shrimp from the Socialist Republic of Vietnam” (“MPG CEP Verification Report”), dated March 8, 2010; see Memo to the File through Scot Fullerton, Program Manager, Office 9, Susan Pulongbarit, International Trade Analyst, “Verification of the Sales and Factors of Production Response of the Minh Phu Group in the 2008-09 Administrative Review of Certain Warmwater Shrimp from the Socialist Republic of Vietnam” (“MPG Verification Report”), dated March 8, 2010.

During the course of verification, in preparing document packages for surprise sales traces requested by the Department, counsel noted several database errors. See MPG CEP Verification Report and MGP Verification Report. Additionally, we noted instances in which the reported distances for some FOPs differed from those previously submitted to the Department. Id. Subsequent to the preliminary results, the Department intends to request databases with corrections to these errors.

Non-Market Economy Country Status

In every case conducted by the Department involving Vietnam, Vietnam has been treated as a non-market economy (“NME”) country. In accordance with section 771(18)(C)(i) of the Act, any determination that a foreign country is an NME country shall remain in effect until revoked by the administering authority. See Certain Frozen Fish Fillets From the Socialist Republic of Vietnam: Notice of Preliminary Results and Partial Rescission of the Third Antidumping Duty Administrative Review, 72 FR 53527 (September 19, 2007) (unchanged in final results). None of the parties to this proceeding have contested such treatment. Accordingly, we calculated the NV in accordance with section 773(c) of the Act, which applies to NME countries.

Separate Rates Determination

A designation as an NME remains in effect until it is revoked by the Department. See section 771(18)(C) of the Act. Accordingly, there is a rebuttable presumption that all companies within Vietnam are subject to government control and, thus, should be assessed a single antidumping duty rate. It is the Department's standard policy to assign all exporters of the merchandise subject to review in NME countries a single rate unless an exporter can affirmatively demonstrate an absence of government control, both in law (de jure) and in fact (de facto), with respect to exports. To establish whether a company is sufficiently independent to be entitled to a separate, company-specific rate, the Department analyzes each exporting entity in an NME country under the test established in the Final Determination of Sales at Less than Fair Value: Sparklers from the People's Republic of China, 56 FR 20588 (May 6, 1991) (“Sparklers”), as amplified by the Notice of Final Determination of Sales at Less Than Fair Value: Silicon Carbide from the People's Republic of China, 59 FR 22585 (May 2, 1994) (“Silicon Carbide”).

For this administrative review, the Department received a total of 23 separate-rate certifications.⁶ Of those 23 separate-rate certifications, two were submitted by the mandatory respondents, whose eligibility for a separate rate was analyzed within their respective questionnaire responses. The Department analyzed twenty separate-rate certifications for companies upon which the administrative review was initiated, but which were not selected for individual examination.

⁶ For firms previously awarded separate rate status, the Department allows those firms to file a separate-rate certification, provided that the company did not undergo changes in status since the previous granting period. Additionally, firms that did not hold a separate rate in a previous granting period may not use a separate-rate certification, but, instead must submit a separate-rate application for separate rate status.

Lastly, we received an untimely filing of Amanda Foods (Vietnam) Limited (“Amanda Foods”), separate-rate certifications on July 31, 2009, 96 days after the April 27, 2009, deadline, which was announced in the Initiation Notice. On August 7, 2009, the Department rejected Amanda Foods' separate rate certification due to untimely filing. See Letter from the Department of Commerce, to Amanda Foods (Vietnam) Limited, regarding Antidumping Duty Administrative Review of Certain Frozen Warmwater Shrimp from the Socialist Republic of Vietnam. On August 4, 2009, Amanda Foods requested that the Department reconsider its rejection and subsequently re-filed its original certification. On August 12, 2009, Amanda Foods submitted a second separate rate certification to the Department. We continue to determine that Amanda Foods' certification is untimely and have rejected the second submission. We note that the Initiation Notice stated that separate rate certifications were due 30 days from the publication of the March 26, 2009, Federal Register notice, and that Amanda Foods did not request an extension of the deadline to submit its certification. Consequently, as Amanda Foods has not demonstrated in a timely manner its eligibility for separate rate status, we preliminarily determine that Amanda Foods will become a part of the Vietnam-wide entity for the purposes of this review.

A. Absence of De Jure Control

The Department considers the following de jure criteria in determining whether an individual company may be granted a separate rate: (1) An absence of restrictive stipulations associated with an individual exporter's business and export licenses; and (2) any legislative enactments decentralizing control of companies.

Although the Department has previously assigned a separate rate to the companies eligible for a separate rate in the instant proceeding, it is the Department's policy to evaluate separate rates questionnaire responses each time a respondent makes a separate rates claim, regardless of whether the respondent received a separate rate in the past. See Manganese Metal from the People's Republic of China, Final Results and Partial Rescission of Antidumping Duty Administrative Review, 63 FR 12440 (March 13, 1998).

In this review, the Minh Phu Group, and Nha Trang Seafoods submitted complete responses to the separate rates section of the Department's NME questionnaire. Twenty separate rate respondents also submitted timely certifications. The evidence submitted by these companies includes government laws and regulations on corporate ownership, business licenses, and narrative information regarding the companies' operations and selection of management. The evidence provided by these companies supports a finding of a de jure absence of government control over their export activities. Additionally, twenty participating separate rate companies/groups submitted timely separate rate certifications and nine companies/groups submitted timely separate rate applications.⁷

⁷ The non-selected respondents of this administrative review that submitted a timely separate rate certification/separate rate application are: Viet Hai Seafood Co., Ltd., a/k/a Vietnam Fish One Co., Ltd. (“Fish One”), Phuong Nam Co., Ltd., and Western Seafood Processing and Exporting Factory (collectively “Phuong Nam”), Cam Ranh Seafoods Processing Enterprise PTE (“Camranh Seafoods”), Danang Seaproducts Import Export Corporation (“Seaprodex Danang”), Minh Hai Jostoco, Cuu Long Seaproducts Company (“Cuu Long Seapro”), Cadovimex Seafood Import-Export and Processing Joint Stock Company (“CADOVIMEX-VIETNAM”), Can Tho Import Export Fishery Limited Company (“CAFISH”), Thuan Phuoc Seafoods and Trading Corporation, Viet Foods Co., Ltd., Coastal Fisheries Development Corporation (“COFIDEC”), Sao Ta Foods Joint Stock Company (“FIMEX VN”), CAMIMEX, INCOMFISH, Cafatex Fishery Joint Stock Corporation (“Cafatex Corporation”), Seaprodex Minh Hai, CATACO, Ca Mau Seafood Joint Stock Company (“Seaprimexco Vietnam”), Nha Trang Fisheries Joint Stock Company (“Nha Trang Fisco”), Bac Lieu Fisheries Joint Stock Company (formerly known as Bac Lieu Fisheries Limited Company) (“Bac Lieu”), Grobest, Gallant Ocean (Vietnam) Co., Ltd. (“Gallant Ocean Vietnam”), UTXI Aquatic Products Processing Corporation (“UTXI”), STAPIMEX, C.P. Vietnam Livestock Company Limited (Currently C.P. Vietnam Livestock Corporation) (“C. Vietnam”), Kim Anh Company Limited (“Kim Anh”), VIMEX, Ngoc Sinh Private Enterprise (“Ngoc Sinh”), Phu Cuong Seafood Processing and Import-Export Co., Ltd.

We have no information in this proceeding that would cause us to reconsider this determination. Thus, we believe that the evidence on the record supports a preliminary finding of an absence of de jure government control based on: (1) An absence of restrictive stipulations associated with the exporter's business license; and (2) the legal authority on the record decentralizing control over the respondents.⁸

⁸ This preliminary finding applies to the two mandatory respondents of this administrative review: The Minh Phu Group and Nha Trang Seafoods, and the non-selected respondents eligible for a separate rate listed in the preceding footnote.

B. Absence of De Facto Control

The absence of de facto government control over exports is based on whether the Respondent: (1) Sets its own export prices independent of the government and other exporters; (2) retains the proceeds from its export sales and makes independent decisions regarding the disposition of profits or financing of losses; (3) has the authority to negotiate and sign contracts and other agreements; and (4) has autonomy from the government regarding the selection of management. See Silicon Carbide, 59 FR at 22587; Sparklers, 56 FR at 20589; see also Notice of Final Determination of Sales at Less Than Fair Value: Furfuryl Alcohol from the People's Republic of China, 60 FR 22544, 22545 (May 8, 1995).

In their questionnaire responses, the mandatory respondents and separate rate respondents submitted evidence indicating an absence of de facto government control over their export activities. Specifically, this evidence indicates that: (1) Each company sets its own export prices independent of the government and without the approval of a government authority; (2) each company retains the proceeds from its sales and makes independent decisions regarding the disposition of profits or financing of losses; (3) each company has a general manager, branch manager or division manager with the authority to negotiate and bind the company in an agreement; (4) the general manager is selected by the board of directors or company employees, and the general manager appoints the deputy managers and the manager of each department; and (5) there is no restriction on any of the companies use of export revenues. Therefore, the Department preliminarily finds that the Minh Phu Group and Nha Trang Seafoods, and the separate rate companies have established prima facie that they qualify for separate rates under the criteria established by Silicon Carbide and Sparklers.

Rate for Non-Selected Companies

Based on timely requests from individual exporters and Petitioner, the Department originally initiated this review with respect to 198 companies/groups. In accordance with section 777A(c)(2)(B) of the Act, the Department employed a limited examination methodology, as it did not have the resources to examine all companies for which a review request was made. As stated previously, the Department selected two exporters, the Minh Phu Group and Nha Trang Seafoods, as mandatory respondents in this review. Twenty-nine additional companies submitted timely separate rate applications and separate rate certifications as requested by the Department and remain subject to review as cooperative separate rate respondents.

We note that the statute and the Department's regulations do not directly address the establishment of a rate to be applied to individual companies not selected for examination where the Department limited its examination in an administrative review pursuant to section 777A(c)(2) of the Act. The Department's practice in this regard, in cases involving limited selection based on exporters accounting for the largest volumes of trade, has been to look to section 735(c)(5) of the Act, which provides instructions for calculating the all-others rate in an investigation, for guidance. Consequently, the Department generally weight-averages the rates calculated for the mandatory respondents, excluding zero and de minimis rates and rates based entirely on facts available (“FA”), and applies that resulting weighted-average margin to non-selected cooperative separate-rate respondents. See, e.g., Wooden Bedroom Furniture From the People's Republic of China: Preliminary Results of Antidumping Duty Administrative Review, Preliminary Results of New Shipper Review and Partial Rescission of Administrative Review, 73 FR 8273 (February 13, 2008) (unchanged in final results). Consequently, because the Department has calculated positive margins for both mandatory respondents in these preliminary results, and consistent with our practice, we have preliminarily established a margin for the separate-rate respondents based on a simple average ⁹ of the rates we calculated for the two mandatory respondents, excluding any rates that are zero, de minimis, or based entirely on FA. For the Vietnam-wide entity, we have assigned the entity's current rate and only rate ever determined for the entity in this proceeding.

⁹ Because there are only two respondents for which a company-specific margin was calculated in this review, the Department has calculated a simple average margin to ensure that the total import quantity and value for each company is not inadvertently revealed.

Surrogate Country

When the Department is investigating imports from an NME country, section 773(c)(1) of the Act directs it to base NV, in most circumstances, on the NME producer's FOPs, valued in a surrogate market economy country or countries considered to be appropriate by the Department. In accordance with section 773(c)(4) of the Act, in valuing the FOPs, the Department shall utilize, to the extent possible, the prices or costs of FOPs in one or more market economy countries that are: (1) At a level of economic development comparable to that of the NME country; and (2) significant producers of comparable merchandise. The sources of the surrogate factor values are discussed under the “Normal Value” section below and in Memorandum to the File through Scot Fullerton, Program Manager, Office 9 from Bobby Wong, Senior International Trade Analyst, Office 9; 2008-2009 Antidumping Duty Administrative Reviews of Certain Frozen Warmwater Shrimp from the Socialist Republic of Vietnam: Surrogate Values for the Preliminary Results, dated March 8, 2010 (“Surrogate Value Memorandum”).

On May 18, 2009, the Department sent interested parties a letter requesting comments on surrogate country selection and information pertaining to valuing factors of production. On August 17, 2009, the Minh Phu Group, Nha Trang Seafoods, CAMIMEX, and Grobest submitted surrogate country comments suggesting that the Department select Bangladesh as the surrogate country. On August 17, 2009, Petitioner filed surrogate country comments suggesting that the Department select India as the surrogate country.

On September 18, 2009, Petitioner, the Minh Phu Group, Nha Trang Seafoods, CAMIMEX, and Grobest submitted surrogate value data. For a detailed account of the Department's surrogate country selection, please see the “Surrogate Country” section below.

Pursuant to its practice, the Department received a list of potential surrogate countries from the Office of Policy (“OP”).¹⁰ The OP determined that Bangladesh, Pakistan, India, Sri Lanka, the Philippines, and Indonesia were at a comparable level of economic development to Vietnam. See Surrogate Country List. The Department considers the six countries identified by the OP in its Surrogate Country List as “equally comparable in terms of economic development.” Id. Thus, we find that Bangladesh, Pakistan, India, Sri Lanka, the Philippines, and Indonesia are all at an economic level of development equally comparable to that of Vietnam.

¹⁰ See Memorandum from Kelly Parkhill, Acting Director, Office of Policy, to Scot T. Fullerton, Program Manager, AD/CVD Operationst, Office 9: Request for a List of Surrogate Countries for a Antidumping Duty Administrative Review of the Antidumping Duty Order on Frozen Warmwater Shrimp from the Socialist Republic of Vietnam, dated May 15, 2009 (“Surrogate Country List”) from the OP.

Also, consistent with the Department's third administrative review findings and based on publicly available data published by the Food and Agricultural Organization (“FAO”) of the United Nations' FishStat Database (“FishStat”), we obtained world production data of frozen warmwater shrimp. Specifically, the Department has reviewed the data from FishStat which shows that Bangladesh, Indonesia, India, Pakistan, and Sri Lanka all produce the identical merchandise. See Memorandum to the File from Susan Pulongbarit, International Trade Analyst, Re: 2008-2009 Administrative Review of Certain Warmwater Shrimp from Vietnam: Fishstat Data, dated March 8, 2010. Therefore, all countries are being considered as an appropriate surrogate country for Vietnam because each country produces the identical merchandise. Moreover, according to FishStat, in 2005, the most recent year for which FishStat export statistics are available, Bangladesh, Indonesia, and India, are all significant producers of comparable merchandise. See id. Though both Pakistan and Sri Lanka export frozen shrimp, the quantities they export do not qualify them as significant producers of the subject merchandise. As Bangladesh, Indonesia, and India are all significant producers of comparable merchandise, the Department must look to data considerations when choosing the most appropriate surrogate country from among these countries.

With regard to India and Indonesia, the record contains publicly available surrogate factor value information for some factors. The Minh Phu Group, Nha Trang Seafoods, Grobest, and CAMIMEX provided data for both Indonesia and Bangladesh from a study conducted by the Network of Aquaculture Centres in Asia-Pacific (“NACA”), an intergovernmental organization affiliated with the UN's FAO. However, unlike the Bangladeshi data within the NACA study, the Indonesian shrimp data is limited and does not satisfy as many factors of the Department's data selection criteria (e.g., broad-market average). Thus, Indonesia is not the most appropriate surrogate country for purposes of this review. With respect to India, the only shrimp value on the record is ranged data obtained from one Indian respondent's data in the current administrative review of warmwater shrimp from India, which also does not satisfy as many factors of the Department's data selection criteria (e.g., public availability, broad-market average).

The Department's practice when selecting the best available information for valuing FOPs, in accordance with section 773(c)(1) of the Act, is to select, to the extent practicable, surrogate values which are product-specific, representative of a broad market average, publicly available, contemporaneous with the POR and exclusive of taxes and duties.¹¹ As a general matter, the Department prefers to use publicly available data representing a broad market average to value surrogate values. See id. The Department notes that the value of the main input, head-on, shell-on (“HOSO”) shrimp, is a critical factor of production in the dumping calculation as it accounts for a significant percentage of normal value. Moreover, the ability to value shrimp on a count size basis is a significant consideration with respect to the data available on the record.

¹¹ See Fresh Garlic from the People's Republic of China: Final Results and Partial Rescission of the Eleventh Administrative Review and New Shipper Reviews, 72 FR 34438 (June 22, 2007) and accompanying Issues and Decision Memorandum at Comment 2A.

The Department notes that the mandatory respondents and Petitioner submitted count-size specific shrimp data and equally comparable surrogate company financial statements from shrimp processors. Therefore, availability of count-size specific data on this record is not the determining factor in selecting a surrogate country for this review.

However, the Bangladeshi shrimp values within the NACA study are compiled by the UN's FAO from actual pricing records kept by Bangladeshi farmers, traders, depots, agents, and processors. See Surrogate Value Memorandum. The Bangladeshi shrimp values within the NACA study represent a broad-market average and are publicly available, unlike those of the single Indian processor. Therefore, with respect to the data considerations, because the record contains shrimp values for Bangladesh that better meet our selection criteria than the India source, we are selecting Bangladesh as the surrogate country.

In this regard, given the above-cited facts, we find that the information on the record shows that Bangladesh is an appropriate surrogate country because Bangladesh is at a similar level of economic development pursuant to section 773(c)(4) of the Act, is a significant producer of comparable merchandise, and has reliable, publicly available data representing a broad-market average for surrogate valuation purposes.

In accordance with 19 CFR 351.301(c)(3)(ii), for the final results in an antidumping administrative review, interested parties may submit publicly available information to value FOPs within 20 days after the date of publication of these preliminary results.¹²

¹² In accordance with 19 CFR 351.301(c)(1), for the final results of this administrative review, interested parties may submit factual information to rebut, clarify, or correct factual information submitted by an interested party less than ten days before, on, or after, the applicable deadline for submission of such factual information. However, the Department notes that 19 CFR 351.301(c)(1) permits new information only insofar as it rebuts, clarifies, or corrects information recently placed on the record. See Glycine from the People's Republic of China: Final Results of Antidumping Duty Administrative Review and Final Rescission, in Part, 72 FR 58809 (October 17, 2007) and accompanying Issues and Decision Memorandum at Comment 2.

U.S. Price

A. Export Price

In accordance with section 772(a) of the Act, we calculated the export price (“EP”) for sales to the United States for both the Minh Phu Group and Nha Trang Seafoods based on the price to unaffiliated purchasers in the United States, and for Nha Trang Seafoods the use of constructed export price (“CEP”) was not otherwise warranted. We calculated EP based on the price to unaffiliated purchasers in the United States. In accordance with section 772(c) of the Act, as appropriate, we deducted from the starting price to unaffiliated purchasers foreign inland freight and brokerage and handling. Each of these services was either provided by an NME vendor or paid for using an NME currency. Thus, we based the deduction of these movement charges on surrogate values. Additionally, for international freight provided by a market economy provider and paid in U.S. dollars, we used the actual cost per kilogram of the freight. See Surrogate Value Memorandum for details regarding the surrogate values for movement expenses.

B. Constructed Export Price

For the majority of the Minh Phu Group's sales, we based U.S. price on CEP in accordance with section 772(b) of the Act, because sales were made on behalf of the Vietnam-based company by its U.S. affiliate to unaffiliated purchasers in the United States. For these sales, we based CEP on prices to the first unaffiliated purchaser in the United States. Where appropriate, we made deductions from the starting price (gross unit price) for foreign movement expenses, international movement expenses, U.S. movement expenses, and appropriate selling adjustments, in accordance with section 772(c)(2)(A) of the Act.

In accordance with section 772(d)(1) of the Act, we also deducted those selling expenses associated with economic activities occurring in the United States. We deducted, where appropriate, commissions, inventory carrying costs, credit expenses, and indirect selling expenses. Where foreign movement expenses, international movement expenses, or U.S. movement expenses were provided by Vietnam service providers or paid for in Vietnamese Dong, we valued these services using surrogate values (see “Factors of Production” section below for further discussion). For those expenses that were provided by a market-economy provider and paid for in market-economy currency, we used the reported expense. Due to the proprietary nature of certain adjustments to U.S. price, for a detailed description of all adjustments made to U.S. price for both mandatory respondents, see Memorandum to the File, through Scot Fullerton, Program Manager, Office 9, from Bobby Wong, Senior International Trade Analyst, Office 9, 2008-2009 Antidumping Duty Administrative Review of Certain Frozen Warmwater Shrimp from the Socialist Republic of Vietnam: MPG Program Analysis for the Preliminary Determination, dated March 8, 2010 (“MPG Analysis Memo”); Memorandum to the File, through Scot Fullerton, Program Manager, Office 9, from Susan Pulongbarit, International Trade Analyst, Office 9, 2008-2009 Antidumping Duty Administrative Review of Certain Frozen Warmwater Shrimp from the Socialist Republic of Vietnam: Nha Trang Seafoods Program Analysis for the Preliminary Determination, dated March 8, 2010 (“Nha Trang Seafoods Analysis Memo”).

Normal Value

1. Methodology

Section 773(c)(1)(B) of the Act provides that the Department shall determine the NV using a FOP methodology if the merchandise is exported from an NME and the information does not permit the calculation of NV using home-market prices, third-country prices, or constructed value under section 773(a) of the Act. The Department bases NV on the FOPs because the presence of government controls on various aspects of NMEs renders price comparisons and the calculation of production costs invalid under the Department's normal methodologies.

2. Factor Valuations

In accordance with section 773(c) of the Act, we calculated NV based on FOPs reported by respondents for the POR, except as noted above. To calculate NV, we multiplied the reported per-unit factor-consumption rates by publicly available Bangladeshi surrogate values. In selecting the surrogate values, we considered the quality, specificity, and contemporaneity of the data. As appropriate, we adjusted input prices by including freight costs to make them delivered prices. Specifically, we added to Bangladeshi import surrogate values a surrogate freight cost using the shorter of the reported distance from the domestic supplier to the factory of production or the distance from the nearest seaport to the factory of production where appropriate. This adjustment is in accordance with the Court of Appeals for the Federal Circuit's decision in Sigma Corp. v. United States, 117 F. 3d 1401, 1407-1408 (Fed. Cir. 1997). Where we did not use Bangladeshi Import Statistics, we calculated freight based on the reported distance from the supplier to the factory.

In instances where we relied on import data to value inputs, in accordance with the Department's practice, we excluded imports from both NME countries and countries deemed to maintain broadly available, non-industry-specific subsidies which may benefit all exporters to all export markets (i.e., Armenia, Azerbaijan, Belarus, China, Georgia, India, Indonesia, Kyrgyz Republic, Moldova, South Korea, Tajikistan, Thailand, Turkmenistan, Uzbekistan, and Vietnam.) from our surrogate value calculations. See, e.g., Tapered Roller Bearings and Parts Thereof, Finished and Unfinished, From the People's Republic of China; Final Results of 1999-2000 Administrative Review, Partial Rescission of Review, and Determination Not to Revoke Order in Part, 66 FR 57420 (November 15, 2001) and accompanying Issues and Decision Memorandum at Comment 1. See “Memorandum to the File: Factors of Production Valuation Memorandum for the Preliminary Results of Antidumping Duty Administrative Review of Floor-standing, Metal-top Ironing Tables and Certain Parts Thereof (Ironing Tables) from the People's Republic of China (PRC),” dated August 31, 2006 (Factor Valuation Memo), for a complete discussion of the import data that we excluded from our calculation of surrogate values. This memorandum is on file in the Central Records Unit (“CRU”).

With regard to surrogate values and the market-economy input values, we have disregarded prices that we have reason to believe or suspect may be subsidized. We have reason to believe or suspect that prices of inputs from Indonesia, South Korea, Thailand, and India may have been subsidized. We have found in other proceedings that these countries maintain broadly available, non-industry-specific export subsidies and, therefore, it is reasonable to infer that all exports to all markets from these countries may be subsidized. See Notice of Final Determination of Sales at Less Than Fair Value and Negative Final Determination of Critical Circumstances: Certain Color Television Receivers From the People's Republic of China, 69 FR 20594 (April 16, 2004) (“CTVs from the PRC”), and accompanying Issues and Decision Memorandum at Comment 7; see also Certain Cut-to-Length Carbon Steel Plate from Romania: Notice of Final Results and Final Partial Rescission of Antidumping Duty Administrative Review, 70 FR 12651 (March 15, 2005), and accompanying Issues and Decision Memorandum at Comment 4. The legislative history of the Act provides that in making its determination as to whether input values may be subsidized, the Department is not required to conduct a formal investigation, rather, Congress directed the Department to base its decision on information that is available to it at the time it makes its determination. See Omnibus Trade and Competitiveness Act of 1988, Conference Report to Accompanying, H.R. Rep. 100-576 at 590 (1988).

Therefore, based on the information currently available, we have not used prices from these countries either in calculating the Bangladeshi import-based surrogate values or in calculating market-economy input values. In instances where a market-economy input was obtained solely from suppliers located in these countries, we used Bangladeshi import-based surrogate values to value the input.

Raw Shrimp Value

The Department notes that Petitioner submitted Indian shrimp values and the mandatory respondents submitted Bangladeshi shrimp values with which to value the main input, raw shrimp. Petitioner submitted Indian shrimp values obtained from a single process, Devi Sea Foods Ltd., and an article from the September 2009 edition of Business Standard. As stated above, the Minh Phu Group, Nha Trang Seafoods, Grobest, and CAMIMEX submitted data contained in the NACA study compiled by the UN's FAO.

As stated above, the Department's practice when selecting the best available information for valuing FOPs is to select, to the extent practicable, surrogate values which are product-specific, representative of a broad market average, publicly available, contemporaneous with the POR and exclusive of taxes and duties. Petitioner's submitted shrimp values from Devi Sea Foods Ltd., although publicly available, are from a single Bangladeshi shrimp producer of comparable merchandise, thus does not represent a broad market average of prices. The Department prefers using data that is representative of a broad market average with which to value the FOPs. Therefore, to value the main input, head-on, shell-on shrimp, the Department used data contained in the NACA study.¹³

¹³ For a detailed explanation of the Department's valuation of shrimp, see Surrogate Value Memorandum.

The Department used United Nations ComTrade Statistics, provided by the United Nations Department of Economic and Social Affairs' Statistics Division, as its primary source of Bangladeshi surrogate value data.¹⁴ The data represents cumulative values for the calendar year 2007, for inputs classified by the Harmonized Commodity Description and Coding System number. For each input value, we used the average value per unit for that input imported into Bangladesh from all countries that the Department has not previously determined to be NME countries. Import statistics from countries that the Department has determined to be countries which subsidized exports (i.e., Indonesia, Korea, Thailand, and India) and imports from unspecified countries also were excluded in the calculation of the average value. See CTVs from the PRC, 69 FR 20594 (April 16, 2004).

¹⁴ This can be accessed online at: http://www.unstats.un.org/unsd/comtrade/.

It is the Department's practice to calculate price index adjustors to inflate or deflate, as appropriate, surrogate values that are not contemporaneous with the POR using the wholesale price index (“WPI”) for the subject country. See Notice of Preliminary Determination of Sales at Less Than Fair Value and Postponement of Final Determination: Hand Trucks and Certain Parts Thereof from the People's Republic of China, 69 FR 29509 (May 24, 2004). However, in this case, a WPI was not available for Bangladesh. Therefore, where publicly available information contemporaneous with the POR with which to value factors could not be obtained, surrogate values were adjusted using the Consumer Price Index (“CPI”) rate for Bangladesh, or the WPI for India or Indonesia (for certain surrogate values where Bangladeshi data could not be obtained), as published in the International Financial Statistics of the International Monetary Fund. We made currency conversions, where necessary, pursuant to 19 CFR 351.415, to U.S. dollars using the daily exchange rate corresponding to the reported date of each sale. We relied on the daily exchange rates posted on the Import Administration Web site (http://www.trade.gov/ia/). See Surrogate Value Memorandum.

We valued the non-shrimp FOPs as follows:

The Department used UN ComTrade to value the raw material and packing material inputs that the Minh Phu Group and Nha Trang Seafoods used to produce the merchandise under review during the POR, except where listed below. For a detailed description of all surrogate values for respondents, see Surrogate Value Memorandum.

We valued electricity using data from the Bangladesh Ministry of Power, Energy, & Mineral Resources. This information was published on their Power Division's Web site. See Surrogate Value Memorandum.

Consistent with the third administrative review, we valued water using 2001 data from the Asian Development Bank. See Memorandum to the File through Catherine Bertrand, Program Manager, Office 9, Import Administration, from Irene Gorelick, Senior Analyst, regarding Antidumping Duty Administrative of Certain Frozen Warmwater Shrimp from the Socialist Republic of Vietnam: Surrogate Values for the Preliminary Results (“3rd Administrative Review SV Memo”) at Exhibit 1. We inflated the value using the POR average CPI rate. See Surrogate Value Memorandum.

We valued diesel using data published by the World Bank in “Bangladesh: Transport at a Glance,” published in June 2006. We inflated the value using the POR average CPI rate. Id.

To value truck freight and river freight, we used data published in 2007 Statistical Yearbook of Bangladesh published by the Bangladesh Bureau of Statistics. We inflated the value using the POR average CPI rate. Id.

To value marine insurance, the Department used rates from RJG consultants. These rates are for sea freight from the Far East Region. Id.

We valued warehouse/cold storage rates published in an article on tropical-seeds.com in July 1997. We inflated the value using the POR average CPI rate. Id.

Consistent with the third administrative review, we valued containerization using information previously available on the Import Administration Web site. See 3rd Administrative Review SV Memo at Exhibit 1. We inflated the value using the POR average WPI rate. See Surrogate Value Memorandum.

Consistent with the third administrative review, the Department valued terminal lift charges using data from the Web site http://www.srinternational.com/standard_containers.htm. See 3rd Administrative Review SV Memo at Exhibit 1. We inflated the value using the POR average WPI rate. See Surrogate Value Memorandum.

To value brokerage and handling (“B&H”), the Department used a simple average of the B&H expenses from Essar Steel Ltd., Himalaya International Ltd., and Navneet Publications (India) Ltd. Id.

We valued the by-product using shell scrap values from the Memorandum to Barbara E. Tillman, Director, Office of AD/CVD Enforcement VII, through Maureen Flannery, Program Manager, Office of AD/CVD Enforcement VII, from Christian Hughes and Adina Teodorescu, Case Analysts, subject: Surrogate Valuation of Shell Scrap: Freshwater Crawfish tail Meat from the People's Republic of China (PRC), Administrative Review 9/1/00-8/31/00 and New Shipper Reviews 9/1/00-8/31/01 and 9/1/00-10/15/01. We inflated the value using the POR average WPI rate. Id.

To value factory overhead, Selling, General, & Administrative expenses, and profit, we used the simple average of the 2007-2008 financial statement of Apex Foods Limited and the 2007-2008 financial statement of Gemini Seafood Limited, both of which are Bangladeshi shrimp processors. See Surrogate Value Memorandum, at Exhibit 8.

Preliminary Results of the Review

The Department has determined that the following preliminary dumping margins exist for the period February 1, 2007, through January 31, 2008:

Certain Frozen Warmwater Shrimp From Vietnam
Manufacturer/Exporter | Weighted- average margin (percent)
Minh Phu Group:
Minh Phat Seafood Co., Ltd., aka Minh Phat Seafood aka Minh Phu Seafood Export Import Corporation (and affiliates Minh Qui Seafood Co., Ltd. and Minh Phat Seafood Co., Ltd.) aka Minh Phu Seafood Corp. aka Minh Phu Seafood Corporation aka Minh Qui Seafood aka Minh Qui Seafood Co., Ltd. | 3.27%
Nha Trang Seaproduct Company (“Nha Trang Seafoods”) | 2.50%
Bac Lieu Fisheries Company Limited, aka Bac Lieu Fisheries Company Limited (“Bac Lieu”) | 2.89%
C.P. Vietnam Livestock Company Limited (“C.P. Vietnam”) | 2.89%
Cadovimex Seafood Import-Export and Processing Joint Stock Company (“CADOVIMEX-VIETNAM”) aka Cai Doi Vam Seafood Import-Export Company (“Cadovimex”) | 2.89%
Cafatex Fishery Joint Stock Corporation (“Cafatex Corp.”) aka Cantho Animal Fisheries Product Processing Export Enterprise (Cafatex), aka Cafatex, aka Cafatex Vietnam, aka Xi Nghiep Che Bien Thuy Suc San Xuat Khau Can Tho, aka Cas, aka Cas Branch, aka Cafatex Saigon, aka Cafatex Fishery Joint Stock Corporation, aka Cafatex Corporation, aka Taydo Seafood Enterprise | 2.89%
Cam Ranh Seafoods Processing Enterprise Company (“Camranh Seafoods”) aka Camranh Seafoods | 2.89%
Camau Frozen Seafood Processing Import Export Corporation (“CAMIMEX”), aka Camimex, aka Camau Seafood Factory No. 4, aka Camau Seafood Factory No. 5 | 2.89%
Can Tho Agricultural and Animal Product Import Export Company (“CATACO”) aka Can Tho Agricultural Products aka CATACO | 2.89%
Can Tho Import Export Fishery Limited Company (“CAFISH”) | 2.89%
Coastal Fishery Development aka Coastal Fisheries Development Corporation (“Cofidec”) aka Coastal Fisheries Development Corporation (“Cofidec”) | 2.89%
Cuulong Seaproducts Company (“Cuu Long Seapro”) aka Cuu Long Seaproducts Limited (“Cuulong Seapro”) aka Cuulong Seapro, aka Cuulong Seaproducts Company (“Cuulong Seapro”) (“Cuu Long Seapro”) | 2.89%
Danang Seaproducts Import Export Corporation (“Seaprodex Danang”) aka Tho Quang Seafood Processing & Export Company, aka Seaprodex Danang, aka Tho Quang Seafood Processing And Export Company, aka Tho Quang, aka Tho Quang Co. | 2.89%
Gallant Ocean (Vietnam) Co., Ltd. (“Gallant Ocean Vietnam”) | 2.89%
Grobest & I-Mei Industry Vietnam, aka Grobest, aka Grobest & I-Mei Industry (Vietnam) Co., Ltd. | 2.89%
Investment Commerce Fisheries Corporation (“Incomfish”) | 2.89%
Kim Anh Company Limited (“Kim Anh”) | 2.89%
Minh Hai Export Frozen Seafood Processing Joint Stock Company, aka Minh Hai Jostoco, aka Minh Hai Export Frozen Seafood Processing Joint-Stock Company (“Minh Hai Jostoco”), aka Minh Hai Export Frozen Seafood Processing Joint-Stock Company, aka Minh Hai Joint Stock Seafood Processing Joint-Stock Company, aka Minh Hai Export Frozen Seafood Processing Joint-Stock Co.¹⁵ | 2.89%
Minh Hai Joint-Stock Seafoods Processing Company (“Seaprodex Minh Hai”) aka Sea Minh Hai, aka Minh Hai Joint-Stock Seafoods Processing Company | 2.89%
Minh Hai Sea Products Import Export Company (“Seaprimex Co”) , aka Ca Mau Seafood Joint Stock Company (“SEAPRIMEXCO”) aka Seaprimexco Vietnam, aka Seaprimexco Ca Mau Seafood Joint Stock Company (“Seaprimexco”) | 2.89%
Ngoc Sinh Private Enterprise, aka Ngoc Sinh Seafoods, aka Ngoc Sinh Seafoods Processing and Trading Enterprise | 2.89%
Nha Trang Fisheries Joint Stock Company (“Nha Trang Fisco”) | 2.89%
Phu Cuong Seafood Processing and Import-Export Co., Ltd. | 2.89%
Phuong Nam Co., Ltd.
Western Seafood Processing and Exporting Factory
Sao Ta Foods Joint Stock Company (“Fimex VN”) | 2.89%
Soc Trang Aquatic Products and General Import Export Company (“Stapimex”) | 2.89%
Thuan Phuoc Seafoods and Trading Corporation
UTXI Aquatic Products Processing Company, aka UT XI Aquatic Products Processing Company, aka UT-XI Aquatic Products Processing Company, aka UTXI, aka UTXI Co. Ltd., aka Khanh Loi Seafood Factory, aka Hoang Phuong Seafood Factory | 2.89%
Viet Foods Co., Ltd. (“Viet Foods”) | 2.89%
Viet Hai Seafood Co., Ltd. aka Vietnam Fish One Co., Ltd. (“Fish One”) | 2.89%
Vinh Loi Import Export Company (“Vimexco”), aka Vinh Loi Import Export Company (“VIMEX”), aka VIMEXCO, aka VIMEX | 2.89%
Vietnam-Wide Rate¹⁶ | 25.76%
¹⁶ The Vietnam-wide entity preliminarily includes Amanda Foods.

The Department will disclose calculations performed for these preliminary results to the parties within five days of the date of publication of this notice in accordance with 19 CFR 351.224(b).

Interested parties may submit case briefs and/or written comments no later than 30 days after the date of publication of these preliminary results of review. See 19 CFR 351.309(c)(ii). Rebuttal briefs and rebuttals to written comments, limited to issues raised in such briefs or comments, may be filed no later than 37 days after the date of publication of these preliminary results of review. See 19 CFR 351.309(d).

Any interested party may request a hearing within 30 days of publication of these preliminary results. See 19 CFR 351.310(c). Requests should contain the following information: (1) The party's name, address, and telephone number; (2) the number of participants; and (3) a list of the issues to be discussed. Oral presentations will be limited to issues raised in the briefs. If we receive a request for a hearing, we plan to hold the hearing seven days after the deadline for submission of the rebuttal briefs at the U.S. Department of Commerce, 14th Street and Constitution Avenue, NW., Washington, DC 20230.

The Department will issue the final results of this administrative review, which will include the results of its analysis of issues raised in any such comments, within 120 days of publication of these preliminary results, pursuant to section 751(a)(3)(A) of the Act.

Assessment Rates

Upon issuance of the final results, the Department will determine, and CBP shall assess, antidumping duties on all appropriate entries covered by these reviews. We will instruct CBP to liquidate entries containing merchandise from the Vietnam-wide entity at the Vietnam-wide rate we determine in the final results of review. We intend to issue assessment instructions to CBP 15 days after the date of publication of the final results of review. In accordance with 19 CFR 351.212(b)(1), for CAMIMEX, the Minh Phu Group, and Phuong Nam Co., Ltd., and Western Seafood Processing and Exporting Factory (collectively “Phuong Nam”), we calculated an exporter/importer (or customer)-specific assessment rate for the merchandise subject to this review. Where the respondent has reported reliable entered values, we calculated importer (or customer)-specific ad valorem rates by aggregating the dumping margins calculated for all U.S. sales to each importer (or customer) and dividing this amount by the total entered value of the sales to each importer (or customer). See 19 CFR 351.212(b)(1). Where an importer (or customer)-specific ad valorem rate is greater than de minimis, we will apply the assessment rate to the entered value of the importer's/customer's entries during the review period. See 19 CFR 351.212(b)(1).

Where we do not have entered values for all U.S. sales, we calculated a per-unit assessment rate by aggregating the antidumping duties due for all U.S. sales to each importer (or customer) and dividing this amount by the total quantity sold to that importer (or customer). See 19 CFR 351.212(b)(1). To determine whether the duty assessment rates are de minimis, in accordance with the requirement set forth in 19 CFR 351.106(c)(2), we calculated importer (or customer)-specific ad valorem ratios based on the estimated entered value. Where an importer (or customer)-specific ad valorem rate is zero or de minimis, we will instruct CBP to liquidate appropriate entries without regard to antidumping duties. See 19 CFR 351.106(c)(2).

For the companies receiving a separate rate that were not selected for individual review, we will calculate an assessment rate based on the weighted average of the cash deposit rates calculated for the companies selected for individual review pursuant to section 735(c)(5) of the Act. Where the weighted-average ad valorem rate is zero or de minimis, we will instruct CBP to liquidate appropriate entries without regard to antidumping duties. See 19 CFR 351.106(c)(2).

For Vinh Hoan and Binh Anh, companies for which this review is preliminarily rescinded, antidumping duties shall be assessed at rates equal to the cash deposit of estimated antidumping duties required at the time of entry, or withdrawal from warehouse, for consumption, in accordance with 19 CFR 351.212(c)(2).

Cash Deposit Requirements

The following cash deposit requirements will be effective upon publication of the final results of the administrative review for all shipments of warmwater shrimp from Vietnam entered, or withdrawn from warehouse, for consumption on or after the publication date, as provided by section 751(a)(1) of the Act: (1) For the exporters listed above, the cash-deposit rate will be that established in the final results of review (except, if the rate is zero or de minimis, no cash deposit will be required); (2) for previously reviewed or investigated companies not listed above that have separate rates, the cash-deposit rate will continue to be the exporter-specific rate published for the most recent period; (3) for all other Vietnamese exporters of subject merchandise, which have not been found to be entitled to a separate rate, the cash-deposit rate will be the Vietnam-wide rate of 25.76 percent; and (4) for all non-Vietnamese exporters of subject merchandise which have not received their own rate, the cash-deposit rate will be the rate applicable to the Vietnamese exporter that supplied that exporter. These deposit requirements, when imposed, shall remain in effect until further notice.

Notification to Importers

This notice also serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This administrative review and this notice are in accordance with sections 751(a)(1) and 777(i) of the Act, and 19 CFR 351.213 and 351.221(b)(4).

Dated: March 8, 2010.
Ronald K. Lorentzen,
DeputyAssistant Secretary for Import Administration.

Attachment

AAAS Logistics

Agrimex

Amerasian Shipping Logistics Corp.; American Container Line

An Giang Fisheries Import and Export Joint Stock Company (Agifish)

An Xuyen

Angiang Agricultural Technology Service

Aquatic Products Trading Company

Bentre Aquaproduct Imports & Exports

Bentre Forestry and Aquaproduct Import-Export Company (“FAQUIMEX”)

Bentre Frozen Aquaproduct Exports; Bentre Seafood Joint Stock and/or Beseaco

Beseaco; Binh Dinh Fishery Joint Stock

C.P. Vietnam Livestock Co., Ltd.

C.P. Vietnam Livestock Co., Ltd.

Ca Mau Seaproducts Exploitation and Service Corporation (“SES”)

Cai Doi Vam Seafood Import-Export Company (“Cadovimex”)

Camau Seafood Fty

Can Tho Agricultural Products

Can Tho Seafood Exports

Cantho Animal Fisheries Product Processing Export Enterprise (“Cafatex”)

Cantho Imp & Exp Seafood Join, a.k.a. Caseamex; Cautre Enterprises

Cautre Export Goods Processing Joint Stock Company

Chun Cheng Da Nang Co., Ltd.

Co Hieu; Cong Ty D Hop Viet Cuong

D & N Foods Processing Danang

Da Van Manh

Dong Phuc Huynh

Dragon Waves Frozen Food Fty.

Duyen Hai Bac Lieu Company (“T.K. Co.”)

Duyen Hai Foodstuffs Processing Factory (“COSEAFEX”)

Four Season Food

Frozen Fty

Frozen Seafoods Factory No. 32

Frozen Seafoods Factory No. 32 and/or Frozen Seafoods FTy

Frozen Seafoods Fty

General Imports & Exports

Hacota; Hai Ha Private Enterprise

Hai Thuan Export Seaproduct Processing Co., Ltd.

Hai Viet

Hai Viet Corporation (“HAVICO”)

Hanoi Seaproducts Import Export Corporation (“Seaprodex Hanoi”)

Hatrang Frozen Seaproduct Fty; Hoa Nam Marine Agricultural

Hoan An Fishery

Hoan Vu Marine Product Co., Ltd.

Hua Heong Food Ind Vietnam

Khanh Loi Trading

Kien Gang Sea Products Import-Export Company (“Kisimex”)

Kien Gang Seaproduct Import and Export Company (“KISIMEX”)

Kien Long Seafoods

Konoike Vinatrans Logistics

Lamson Import-Export Foodstuffs Corporation

Long An Food Processing Export Joint Stock Company (“LAFOOCO”)

Lucky Shing; Minh Hai Sea Products Import Export Company (“Seaprimex Co”)

Minh Phu Seafood Export Import Corporation (and affiliates Minh Qui Seafood Co., Ltd. and Minh Phat Seafood Co., Ltd.)

Nam Hai

Ngoc Sinh Seafoods

Nha Trang Company Limited

Nha Trang Fisheries Co., Ltd.

Pataya Food Industry (Vietnam) Ltd.

Phat Loc Seafood

Phung Hung Private Business

Phuong Nam Seafood Co., Ltd.

Quoc Viet Seaproducts Processing Trading Import and Export Co., Ltd.

Saigon Orchide

Sao Ta Seafood Factory

Sea Product

Sea Products Imports & Exports

Seafood Company Zone II (“Thusaco2”)

Seafood Processing Joint Stock Company No. 9 (previously Seafood Processing Imports Exports)

Seafoods and Foodstuff Factory

Seaprimexco Vietnam

Seaprodex and/or Seaprodex Hanoi

Seaprodex Min Hai; Seaprodex Quang Tri; Sonacos

Song Huong ASC Import-Export Company Ltd.

Song Huong ASC Import-Export Company Ltd. and/or Song Huong ASC Joint Stock Company Song Huong ASC Joint Stock Company

Special Aquatic Products Joint Stock Company (“Seaspimex”)

SSC

T & T Co., Ltd.

Tacvan Frozen Seafoods Processing Export

Taydo Seafood Enterprises

Thami Shipping & Airfreight

Thang Long

Thanh Doan Seaproducts Import

Thanh Long

Thien Ma Seafood

Tho Quang Seafood Processing & Export Company Da Nang Fisheries Service Industrial

Tourism Material and Equipment Company (Matourimex Hochiminh City Branch)

Truc An Company

Trung Duc Fisheries Private Enterprise

V N Seafoods; Vien Thang Private Enterprise

Viet Nhan Company

Vietfracht Can Tho

Vietnam Fish-One Co., Ltd.

Vietnam Northern Viking Technologie Co.

Vietnam Northern Viking Technology Co., Ltd.

Vietnam Tomec Co., Ltd.

Vilfood Co.

Western Seafood Processing and Exporting Factory.

[FR Doc. 2010-5596 Filed 3-12-10; 8:45 am]

BILLING CODE 3510-DS-P